NATIONAL CREDIT UNION ADMINISTRATION

Sunshine Act; Notice of Agency Meeting

TIME AND DATE: 10:00 a.m., Thursday, May 22, 2014.

PLACE: Board Room, 7th Floor, Room 7047, 1775 Duke Street (All visitors must use Diagonal Road Entrance), Alexandria, VA 22314-3428.

STATUS: Open.

MATTERS TO BE CONSIDERED:

1. Economic Growth and Regulatory Paperwork Reduction Act Review.

2. AERO Federal Credit Union (Glendale, Arizona) Request to Add Two Underserved Areas.

3. Corporate Stabilization Fund Quarterly Review.

RECESS: 11:00 a.m.

TIME AND DATE: 11:15 a.m., Thursday, May 22, 2014.

PLACE: Board Room, 7th Floor, Room 7047, 1775 Duke Street, Alexandria, VA 22314-3428.

STATUS: Closed.

MATTERS TO BE CONSIDERED:

1. Share Insurance Appeal. Closed pursuant to Exemption (6).

FOR FURTHER INFORMATION CONTACT: Gerard Poliquin, Secretary of the Board, Telephone: 703-518-6304.

Gerard Poliquin,
Secretary of the Board.

[FR Doc. 2014-11605 Filed 5-15-14; 4:15 pm]

BILLING CODE P